DEPARTMENT OF COMMERCE

Proposed Information Collection for Focus Groups and One-on-One Interviews

AGENCY: Office of Response and Restoration, Assessment and Restoration Division and the Office of Habitat Conservation, National Oceanic and Atmospheric Administration (NOAA), Commerce.

ACTION: Notice and request for comments on Proposed Information Collection for Focus Groups and One-on-one Interviews for the Elwha River Dam Removal and Floodplain Restoration Ecosystem Service Valuation Pilot Project located on the north central part of the Olympic Peninsula of Washington State.

SUMMARY: As required by the Paperwork Reduction Act of 1995, we will ask the Office of Management and Budget (OMB) to approve the Information Collection (IC) to conduct focus groups and one-on-one interviews, described below. We invite the general public and Federal agencies to comment on this proposed IC.

FOR FURTHER INFORMATION CONTACT: For further information, please contact Dr. Anthony Dvarskas by telephone at 732-872-3090, or by e-mail at Anthony.Dvarskas@noaa.gov. You may also contact Dr. Peter Edwards by telephone at 301-713-2325 ext. 210 or by e-mail at Peter.Edwards@noaa.gov.

SUPPLEMENTARY INFORMATION:

I. Abstract

NOAA is requesting approval for a new IC to conduct focus groups and one-on-one interviews to develop and test the Elwha River Dam Removal and Floodplain Restoration Ecosystem Service Valuation Survey.

The planned removal of two hydroelectric dams on the Elwha River would be one of the largest dam-removal projects in U.S. history. This project, along with restoration actions planned for the floodplain and drained reservoir basins, would have numerous impacts to people of the surrounding region. Impacted groups include recreators who engage in river activities such as fishing and rafting, reservoir users, and members of American Indian Tribes for whom the river has cultural, environmental, and economic significance. The dam removal and restoration actions could also have value to people throughout the Pacific Northwest and the United States, regardless of whether they visit the Elwha River or Olympic Peninsula. Such nonuse value may be significant because the dam removal and habitat restoration will restore the river to more natural conditions and will restore threatened and endangered populations of salmon and other fish species. This project will also address an important gap in research on indirect and nonuse values provided by habitat restoration and protection.

A study of the value of ecological restoration is of particular interest in this location because significant baseline ecological data are available to allow a comparison of ecological values with some of the more obvious use losses associated with the reservoir.

The ability to link results of the study to precise measures of ecosystem changes will be useful in applying the study to future restoration sites, enabling NOAA to evaluate a broader range of ecosystem services provided by future restoration actions.

A nonmarket valuation survey of the U.S. public and members of the Lower Elwha Klallam Tribe will be developed and implemented. To ensure the survey questions and policy scenarios presented in this survey are accurate, easily understood, and the least burdensome, it is important to test the survey with small focus groups and in one-on-one interviews.

II. Method of Collection

Information will be collected through 12 focus groups, 2 stakeholder meetings and 24 one-on-one interviews.

III. Data

Title: Elwha River Dam Removal and Floodplain Restoration Ecosystem Service Valuation Pilot Project.

OMB Control Number: 0648-xxxx.

Type of Review: Regular (request for approval of a new information collection).

Affected Entities: Individuals or households.

Frequency of Response: One time.

Respondent's Obligation: Voluntary.

Annual Reporting and Record-keeping Burden:

Estimated Number of Respondents Annually: 156 (120 for focus groups, 12 for stakeholder meetings, and 24 for one-on-one interviews).

Estimated Burden per Response: 2 hours for focus groups and stakeholder meetings, and 1 hour for one-on-one interviews.

Total Annual Reporting: 300.

Estimated Total Annual Cost to Public: $0.

IV. Request for Comments

We invite comments concerning this IC on: (1) Whether the collection of information is necessary, including whether the information will have practical utility; (2) the accuracy of our estimate of the burden for this collection of information; (3) ways to enhance the quality, utility, and clarity of the information to be collected; and (4) ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. Although you can ask us in your comment to withhold your personal identifying information from public review, we cannot guarantee that we will be able to do so.

Dated: March 3, 2011.
David G. Westerholm,
Director, Office of Response and Restoration, National Ocean Service, National Oceanic and Atmospheric Administration.

[FR Doc. 2011-6062 Filed 3-15-11; 8:45 am]

BILLING CODE 3510-JE-P